FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Pub. L. 89-777 (46 App. U.S.C. 817 (e)) and the Federal Maritime Commission's implementing regulations at 46 CFR part 540, as amended:

Discovery Cruises Limited (d/b/a Discovery World Cruises Inc.), 1800 S.E. 10th Avenue, Suite 205, Fort Lauderdale, FL 33316, Vessel: DISCOVERY.

Imperial Majesty Cruise Line L.L.C. (d/b/a Imperial Majesty Cruise Line), 2950 Gateway Drive, Suite 200, Pompano Beach, FL 33069, Vessel: REGAL EMPRESS.

Lake Michigan Trans-Lake Shortcut, Inc. (d/b/a Lake Michigan Car Ferry Service, Inc. and Lake Michigan Carferry), P.O. Box 708, 701 Maritime Drive, Ludington, MI 49431, Vessel: BADGER.

Magic Cruise Line Services Co. (d/b/a Ocean Club Cruises and Ocean Club Line) and Alberta Trading Co., 405-A Atlantis Road, Cape Canaveral, FL 32920, Vessel: MIRAGE 1.

Mediterranean Shipping Cruises S.p.A., Piazza Garibaldi 91, Naples 80142, Italy, Vessel: LIRICA.

Norwegian Cruise Line Limited (d/b/a Norwegian Cruise Line), 7665 Corporate Center Drive, Miami, FL 33126, Vessel: PRIDE OF AMERICA.

Oceania Cruises, Inc., 8120 N.W. 53rd Street, Miami, FL 33166, Vessel: REGATTA.

Princess Cruise Lines, Ltd. and P & O Princess Cruises International Limited, 24305 Town Center Drive, Santa Clarita, CA 91355-4999, Vessels: CARIBBEAN PRINCESS, CORAL PRINCESS, DAWN PRINCESS, DIAMOND PRINCESS, GOLDEN PRINCESS, GRAND PRINCESS, ISLAND PRINCESS, PACIFIC PRINCESS, REGAL PRINCESS, ROYAL PRINCESS, SAPPHIRE PRINCESS, STAR PRINCESS and SUN PRINCESS.

Pullmantur S.A. (d/b/a Pullmantur Cruises), Orense, 16, 28020 Madrid, Spain, Vessel: PACIFIC.

Royal Olympic Cruises Ltd and RO Cruises, Inc., 805 3rd Avenue, 18th Floor, New York, NY 10022-7513, Vessels: OLYMPIA EXPLORER and OLYMPIA VOYAGER.

Scotia Prince Cruises Limited, Prince of Fundy Cruises Ltd., Transworld Steamship Company (Panama) Inc. and International Shipping Partners, Inc., Station A, P.O. Box 4216, 468 Commercial Street, Portland, ME 04101-0416, Vessel: SCOTIA PRINCE.

Silversea Cruises Ltd. and Silver Cloud Shipping Co. Ltd., 110 East Broward Boulevard, Fort Lauderdale, FL 33301, Vessel: SILVER CLOUD.

Silversea Cruises Ltd. and Silver Wind Shipping Ltd., 110 East Broward Boulevard, Fort Lauderdale, FL 33301, Vessel: SILVER WIND.

Dated: September 12, 2003.
Bryant L. VanBrakle,
Secretary.

[FR Doc. 03-23787 Filed 9-17-03; 8:45 am]

BILLING CODE 6730-01-P